Presidential Determination No. 2015-13 of September 29, 2015

Determination With Respect to the Child Soldiers Prevention Act of 2008

Memorandum for the Secretary of State

Pursuant to section 404 of the Child Soldiers Prevention Act of 2008 (22 U.S.C. 2370c-1) (CSPA), I hereby determine that it is in the national interest of the United States to waive the application of the prohibition in section 404(a) of the CSPA with respect to the Democratic Republic of the Congo, Nigeria, and Somalia; and to waive in part the application of the prohibition in section 404(a) of the CSPA with respect to South Sudan to allow for the provision of International Military Education and Training, and Peacekeeping Operations assistance, and support provided pursuant to section 1208 of the National Defense Authorization Act of Fiscal Year 2014, to the extent such assistance or support would be restricted by the CSPA. I hereby waive such provisions accordingly.

You are hereby authorized and directed to submit this determination to the Congress, along with the accompanying Memorandum of Justification, and to publish the determination in the Federal Register.

THE WHITE HOUSE,

Washington, September 29, 2015

[FR Doc. 2015-26491

Filed 10-15-15; 8:45 am]

Billing code 4710-10-P